DEPARTMENT OF ENERGY

Federal Energy Regulatory Commission

[Project No. 1951-079]

Lester C. Reed v. Georgia Power Company; Notice of Complaint

August 10, 2001.

Take notice that on August 7, 2001, Lester Reed filed a complaint pursuant to Rule 206 of the Commission's Rules of Practice and Procedure, 18 CFR 385.206 (2001), and Part I of the Federal Power Act, 16 U.S.C. 791, et seq., against Georgia Power Company, licensee of the Sinclair Project No. 1951, located on the Oconee River in Baldwin County, Georgia. Mr. Reed alleges that, on 34 days between October 25, 2000, and July 31, 2001, the licenses violated the minimum flow requirements of Article 401(f) of the March 19, 1996 order issuing new license ¹ and paragraph B of the October 10, 1997 order modifying and approving a final plan for monitoring and recording project operations.² Copies of the complaint are on file with the Commission and are available for public inspection in the Commission's Public Reference Room. The complaint may also be viewed on the Internet at http://www.ferc.gov using the “RIMS” link, select “Docket#” and follow the instructions (call 202-208-2222 for assistance).

¹ 74 FERC ¶ 62,146 (1996).

² 81 FERC ¶ 62,034 (1997).

As required by 18 CFR 385.206(c), when Mr. Reed filed his complaint, he was required to simultaneously serve a copy of the complaint on the licensee and affected regulatory agencies. No later than August 15, 2001, Mr. Reed must provide evidence that he served the complaint on these entities.

The licensee may file an answer to the complaint. Any person desiring to be heard or to protest this filing should file comments, a motion to intervene, or a protest with the Federal Energy Regulatory Commission, 888 First Street, N.E., Washington, D.C. 20426, in accordance with Rules 211 and 214 of the Commission's Rules of Practice and Procedure (18 CFR 385.211 and 385.214). The licensee's answer and all comments, motions, or protests must be filed on or before September 4, 2001. Any entity wishing to become a party must file a motion to intervene. Comments, motions to intervene, and protests may be filed electronically via the internet in lieu of paper. See 18 CFR 385.2001(a)(1)(iii), and the instructions on the Commission's web site under the “e-filing” link.

Linwood A. Watson, Jr.,
Acting Secretary.

[FR Doc. 01-20708 Filed 8-16-01; 8:45 am]

BILLING CODE 6717-01-P